DEPARTMENT OF ENERGY

Federal Energy Regulatory Commission

Combined Notice of Filings #1

Take notice that the Commission received the following exempt wholesale generator filings:

Docket Numbers: EG21-10-000.

Applicants: American Electric Power Service Corporation.

Description: Self-Certification of EWG of American Electric Power Service Corporation, on behalf of Flat Ridge 3.

Filed Date: 10/16/20.

Accession Number: 20201016-5177.

Comments Due: 5 p.m. ET 11/6/20.

Take notice that the Commission received the following electric rate filings:

Docket Numbers: ER20-2009-002.

Applicants: Tri-State Generation and Transmission Association, Inc.

Description: Compliance filing: Compliance Filing—Part 1 to be effective 2/25/2020.

Filed Date: 10/19/20.

Accession Number: 20201019-5041.

Comments Due: 5 p.m. ET 11/9/20.

Docket Numbers: ER20-2009-003.

Applicants: Tri-State Generation and Transmission Association, Inc.

Description: Compliance filing: Compliance Filing—Part 2 to be effective 2/25/2020.

Filed Date: 10/19/20.

Accession Number: 20201019-5042.

Comments Due: 5 p.m. ET 11/9/20.

Docket Numbers: ER20-2787-001.

Applicants: Greenleaf Energy Unit 2 LLC.

Description: Tariff Amendment: Deficiency filing to be effective 10/30/2020.

Filed Date: 10/16/20.

Accession Number: 20201016-5194.

Comments Due: 5 p.m. ET 11/6/20.

Docket Numbers: ER20-2787-002.

Applicants: Greenleaf Energy Unit 2 LLC.

Description: Tariff Amendment: Amendement to 5 to be effective 10/30/2020.

Filed Date: 10/19/20.

Accession Number: 20201019-5074.

Comments Due: 5 p.m. ET 11/9/20.

Docket Numbers: ER20-3027-001.

Applicants: Duke Energy Florida, LLC.

Description: Tariff Amendment: Amendment to DEF-Seminole Amended and Restated NITSA to be effective 12/1/2020.

Filed Date: 10/16/20.

Accession Number: 20201016-5190.

Comments Due: 5 p.m. ET 11/6/20.

Docket Numbers: ER21-130-001.

Applicants: New York Independent System Operator, Inc.

Description: Tariff Amendment: Amendment of exigent circumstances filing to be effective 10/21/2020.

Filed Date: 10/19/20.

Accession Number: 20201019-5045.

Comments Due: 5 p.m. ET 11/9/20.

Docket Numbers: ER21-136-000.

Applicants: Flat Ridge 3 Wind Energy, LLC.

Description: Baseline eTariff Filing: MBR Tariff Filing to be effective 12/1/2020.

Filed Date: 10/16/20.

Accession Number: 20201016-5180.

Comments Due: 5 p.m. ET 11/6/20.

Docket Numbers: ER21-137-000.

Applicants: American Transmission Systems, Incorporated, PJM Interconnection, L.L.C.

Description: § 205(d) Rate Filing: ATSI submits ECSA, SA No. 5710 to be effective 12/16/2020.

Filed Date: 10/16/20.

Accession Number: 20201016-5186.

Comments Due: 5 p.m. ET 11/6/20.

Docket Numbers: ER21-138-000.

Applicants: Mid-Atlantic Interstate Transmission, LLC, PJM Interconnection, L.L.C.

Description: § 205(d) Rate Filing: MAIT submits ECSA, SA No. 5711 to be effective 12/16/2020..

Filed Date: 10/16/20.

Accession Number: 20201016-5191.

Comments Due: 5 p.m. ET 11/6/20.

Docket Numbers: ER21-139-000.

Applicants: Ameren Illinois Company, Midcontinent Independent System Operator, Inc.

Description: § 205(d) Rate Filing: 2020-10-19_SA 3028 Ameren IL-Prairie Power Project #29 Arcola to be effective 12/19/2020.

Filed Date: 10/19/20.

Accession Number: 20201019-5032.

Comments Due: 5 p.m. ET 11/9/20.

Docket Numbers: ER21-140-000.

Applicants: PJM Interconnection, L.L.C.

Description: § 205(d) Rate Filing: Original ISA, Service Agreement No. 5797; Queue No. AC1-034 to be effective 9/17/2020.

Filed Date: 10/19/20.

Accession Number: 20201019-5036.

Comments Due: 5 p.m. ET 11/9/20.

Docket Numbers: ER21-141-000.

Applicants: PJM Interconnection, L.L.C.

Description: § 205(d) Rate Filing: Origianl ISA No. 5800; Queue No. AC1-143 to be effective 9/17/2020.

Filed Date: 10/19/20.

Accession Number: 20201019-5050.

Comments Due: 5 p.m. ET 11/9/20.

Docket Numbers: ER21-142-000.

Applicants: System Energy Resources, Inc.

Description: § 205(d) Rate Filing: SERI UPSA Protocols to be effective 1/1/2021.

Filed Date: 10/19/20.

Accession Number: 20201019-5070.

Comments Due: 5 p.m. ET 11/9/20.

Docket Numbers: ER21-143-000.

Applicants: Public Service Company of Colorado.

Description: § 205(d) Rate Filing: Amended and Restated Transmission Services Agreement to be effective 1/1/2021.

Filed Date: 10/19/20.

Accession Number: 20201019-5077.

Comments Due: 5 p.m. ET 11/9/20.

Docket Numbers: ER21-144-000.

Applicants: Duke Energy Florida, LLC.

Description: Tariff Cancellation: Notice of Terminiation—DEF-DEF- RS-296 to be effective 12/19/2020.

Filed Date: 10/19/20.

Accession Number: 20201019-5080.

Comments Due: 5 p.m. ET 11/9/20.

Take notice that the Commission received the following qualifying facility filings:

Docket Numbers: QF21-47-000.

Applicants: ArcelorMittal Cleveland LLC.

Description: Form 556 of ArcelorMittal Cleveland LLC [Cleveland].

Filed Date: 10/15/20.

Accession Number: 20201015-5222.

Comments Due: Non-Applicable.

Docket Numbers: QF21-48-000.

Applicants: ArcelorMittal Cleveland LLC.

Description: Form 556 of ArcelorMittal Cleveland LLC [Warren].

Filed Date: 10/15/20.

Accession Number: 20201015-5224.

Comments Due: Non-Applicable.

Docket Numbers: QF21-49-000.

Applicants: ArcelorMittal USA LLC.

Description: Form 556 of ArcelorMittal USA LLC [Indiana Harbor East No. 16].

Filed Date: 10/15/20.

Accession Number: 20201015-5226.

Comments Due: Non-Applicable.

Docket Numbers: QF21-50-000.

Applicants: ArcelorMittal USA LLC.

Description: Form 556 of ArcelorMittal USA LLC [Indiana Harbor West].

Filed Date: 10/15/20.

Accession Number: 20201015-5228.

Comments Due: Non-Applicable.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 19, 2020.
Nathaniel J. Davis, Sr.,
Deputy Secretary.

[FR Doc. 2020-23638 Filed 10-23-20; 8:45 am]

BILLING CODE 6717-01-P